DEPARTMENT OF TRANSPORTATION

Federal Highway Administration

Environmental Impact Statement; Salt Lake County, Utah

AGENCY: Federal Highway Administration (FHWA), DOT.

ACTION: Notice of Intent.

SUMMARY: FHWA is issuing this notice to advise the public that an Environmental Impact Statement (EIS) will be prepared for proposed transportation improvements in Salt Lake County, Utah.

FOR FURTHER INFORMATION CONTACT: Bryan Dillon, Area Engineer, Federal Highway Administration, 2520 West 4700 South, Suite 9A, Salt Lake City, Utah 84129, Telephone: (801) 955-3517, email Bryan.Dillon@dot.gov; or Peter Tang, Project Manager, Utah Department of Transportation, Region Two Office, 2010 South 2760 West, Salt Lake City, UT 84104, Telephone: (801) 887-3459, email ptang@utah.gov.

SUPPLEMENTARY INFORMATION: FHWA, in cooperation with the Utah Department of Transportation (UDOT), will prepare an EIS on a proposal to address current and projected traffic demand at the State Street Interchange on I-80 in South Salt Lake City, Salt Lake County, Utah. The proposed study area extends from approximately I-15 to 700 East and from approximately 2100 South to 2700 South. Transportation improvements in this area are needed to address current and projected 2040 traffic demand, address mobility issues, provide for economic growth, and improve safety.

The FHWA will consider a reasonable range of alternatives which meet the project purpose and need and are based on agency and public input. These alternatives include: (1) Taking no action; (2) using access control and transportation system management/travel demand management to improve the efficiency of the existing network; (3) using alternate travel modes; (4) improving the interchange on I-80 at State Street; (5) making improvements to adjacent facilities; (6) combinations of any of the above; and (7) other feasible alternatives identified during the scoping process.

A Coordination Plan is being prepared to define the agency and public participation process for the environmental review process. The plan will outline how agencies and the public will provide input during the scoping process, the development of the purpose and need, and alternatives development.

Letters describing the proposed action and soliciting comments will be sent to appropriate Federal, state, and local agencies, and to private organizations and citizens who have previously expressed or who are known to have an interest in this proposal. These letters will invite agencies and the public to participate in scoping meetings at locations and dates to be determined.

Public meetings will be held to allow the public, as well as Federal, state, and local agencies to provide comments on the purpose and need for the project, potential alternatives, and social, economic, and environmental issues of concern.

In addition, a public hearing will be held following the release of the draft EIS. Public notice advertisements and direct mailings will notify interested parties of the time and place of the public meetings and the public hearing.

To ensure that the full range of issues related to this proposed action is addressed and all significant issues are identified, comments and suggestions are invited from all interested parties. Comments or questions concerning this proposed action and the EIS should be directed to FHWA or UDOT at the addresses provided above.

(Catalog of Federal Domestic Assistance Program Number 20-205, Highway Planning and Construction. The regulations implementing Executive Order 12372 regarding intergovernmental consultation on Federal programs and activities apply to this program.)

Ivan Marrero,
Division Administrator, Salt Lake City, Utah.

[FR Doc. 2014-17039 Filed 7-18-14; 8:45 am]

BILLING CODE 4910-22-P